DEPARTMENT OF COMMERCE

International Trade Administration

[A-533-824, A-583-837]

Polyethylene Terephthalate Film, Sheet and Strip From India and Taiwan: Final Results of the Second Sunset Review of the Antidumping Duty Orders and Correction to the Preliminary Results

AGENCY: Enforcement and Compliance, formerly Import Administration, International Trade Administration, Department of Commerce.

DATES: Effective Date: March 4, 2014.

SUMMARY: As a result of these sunset reviews, the Department of Commerce (the Department) finds that the revocation of the antidumping orders on polyethylene terephthalate film, sheet, and strip from India and Taiwan would be likely to lead to continuation or recurrence of dumping. The magnitudes of the dumping margins likely to prevail are indicated in the “Final Results of Sunset Reviews” section of this notice.

FOR FURTHER INFORMATION CONTACT: Jacqueline Arrowsmith or Myrna Lobo, AD/CVD Operations, Office VII, Enforcement and Compliance, International Trade Administration, U.S. Department of Commerce, 14th Street and Constitution Avenue NW., Washington, DC 20230; telephone (202) 482-5255 or (202) 482-2371.

SUPPLEMENTARY INFORMATION: On November 8, 2013, the Department published the Preliminary Results.¹ Although the Department initially initiated expedited sunset reviews of these orders, the Department subsequently determined to conduct full sunset reviews in order to provide parties with the opportunity to comment regarding the implementation of the Final Modification for Reviews in these reviews.² The Department extended the deadline for completing these reviews pursuant to section 751(c)(5)(C) of the Tariff Act of 1930, as amended (the Act).³ We invited interested parties to comment on the Preliminary Results. Petitioners filed a statement expressing their agreement with the Department's Preliminary Results.⁴ No other party submitted a statement or comments concerning the Preliminary Results.

¹ Id.

² See Memorandum to Christian Marsh, Deputy Assistant Secretary for Antidumping and Countervailing Duty Operations, from Mark Hoadley, Acting Director, Office 6, “Sunset Reviews of the Antidumping Duty Orders on Polyethylene Terephthalate Film from India and Taiwan: Adequacy Redetermination,” dated July 22, 2013; see also Antidumping Proceedings: Calculation of the Weighted-Average Dumping Margin and Assessment Rate in Certain Antidumping Duty Proceedings; Final Modification for Reviews, 77 FR 8101 (February 14, 2012) (Final Modification for Reviews).

³ See Polyethylene Terephthalate Film from India and Taiwan: Extension of Time Limits for Preliminary and Final Results of the Second Antidumping Duty Sunset Reviews, 78 FR 45512 (July 29, 2013).

⁴ See Comments from DuPont Teijin Films, Mitsubishi Polyester, Inc., and SKC, Inc. to the Department of Commerce, dated December 30, 2013.

Scope of the Orders

India and Taiwan

The products covered by these orders are all gauges of raw, pretreated, or primed PET Film, whether extruded or coextruded. Excluded from metallized films and other finished films that have had at least one of their surfaces modified by the application of a performance-enhancing resinous or inorganic layer of more than 0.00001 inches thick. Imports of PET Film are classifiable in the Harmonized Tariff Schedule of the United States (HTSUS) under item number 3920.62.00. HTSUS subheadings are provided for convenience and customs purposes. The written description of the scope of these orders is dispositive. Since these orders were published, there was one scope determination for PET film from India, dated August 25, 2003. In this determination, requested by International Packaging Films Inc., the Department determined that tracing and drafting film is outside of the scope of the order on PET film from India.⁵

⁵ See Notice of Scope Rulings, 70 FR 24533 (May 10, 2005).

Final Results of the Sunset Reviews

For the reasons expressed in the Preliminary Results, pursuant to section 751(C) of the Act, the Department determines that revocation of the antidumping orders on polyethylene terephthalate film, sheet, and strip from India and Taiwan would likely lead to a continuation or recurrence of dumping at the rates listed below:

Producer or exporter | Rate (percent)
INDIA:
Ester Industries, Limited | 24.10
Polyplex Corporation Limited | 3.02
All Others | ⁶ 13.17
TAIWAN:
Nan Ya Plastics Corporation, Ltd | 8.99
Shinkong Synthetic Fibers Corporation | 0.75
All Others | 4.37

Notification to Interested Parties

This notice also serves as the only reminder to parties subject to administrative protective orders (APO) of their responsibility concerning the return or destruction of proprietary information disclosed under APO in accordance with 19 CFR 351.305(a)(3), which continues to govern business proprietary information in this segment of these proceedings. Timely written notification of the return or destruction of APO materials, or conversion to judicial protective order, is hereby requested. Failure to comply with the regulations and terms of an APO is a violation which is subject to sanction.

⁶ The applicable “all others” rate for the preliminary results of this sunset review for India was incorrectly stated as 16.96 percent in the Preliminary Results. See Preliminary Results, 78 FR at 67114. However, it was accurately stated as 13.17 percent in the accompanying Issues and Decision Memorandum. Id., and the accompanying Issues and Decision Memorandum at “Magnitude of the Margin Likely to Prevail.”

We are issuing and publishing these results in accordance with sections 751(c), 752, and 777(i)(1) of the Act.

Dated: February 25, 2014.
Paul Piquado,
Assistant Secretary for Enforcement and Compliance.

[FR Doc. 2014-04748 Filed 3-3-14; 8:45 am]

BILLING CODE 3510-DS-P